DEPARTMENT OF ENERGY

Federal Energy Regulatory Commission

Combined Notice of Filings #1

Take notice that the Commission received the following electric rate filings:

Docket Numbers: ER21-62-000.

Applicants: Uniper Global Commodities North America LLC.

Description: Refund Report: UGCNA Refund Report 2022.07.20 to be effective N/A.

Filed Date: 7/20/22.

Accession Number: 20220720-5069.

Comment Date: 5 p.m. ET 8/10/22.

Docket Numbers: ER22-2429-000.

Applicants: Entergy Nuclear Palisades, LLC.

Description: Tariff Amendment: Entergy Nuclear Palisades, LLC, MBR Tariff Cancellation to be effective 7/20/2022.

Filed Date: 7/19/22.

Accession Number: 20220719-5181.

Comment Date: 5 p.m. ET 8/9/22.

Docket Numbers: ER22-2430-000.

Applicants: Entergy Nuclear Power Marketing, LLC.

Description: Tariff Amendment: Entergy Nuclear Power Marketing, LLC, MBR Tariff Cancellation to be effective 7/20/2022.

Filed Date: 7/19/22.

Accession Number: 20220719-5183.

Comment Date: 5 p.m. ET 8/9/22.

Docket Numbers: ER22-2431-000.

Applicants: The United Illuminating Company.

Description: § 205(d) Rate Filing: Schedule 20A Phase I/II HVDC-TF Service Agreements for the Resale, Reassignment to be effective 12/31/9998.

Filed Date: 7/19/22.

Accession Number: 20220719-5184.

Comment Date: 5 p.m. ET 8/9/22.

Docket Numbers: ER22-2432-000.

Applicants: The United Illuminating Company.

Description: § 205(d) Rate Filing: Schedule 20A Phase I/II HVDC-TF Service Agreements for the Resale, Reassignment to be effective 12/31/9998.

Filed Date: 7/19/22.

Accession Number: 20220719-5189.

Comment Date: 5 p.m. ET 8/9/22.

Docket Numbers: ER22-2433-000.

Applicants: Central Maine Power Company.

Description: § 205(d) Rate Filing: Schedule 20A Phase I/II HVDC-TF Service Agreements for the Resale, Reassignment to be effective 12/31/9998.

Filed Date: 7/19/22.

Accession Number: 20220719-5190.

Comment Date: 5 p.m. ET 8/9/22.

Docket Numbers: ER22-2434-000.

Applicants: PJM Interconnection, L.L.C.

Description: § 205(d) Rate Filing: Amendment to ISA, Service Agreement No. 6077; Queue Nos. AA1-146/AA2-030 to be effective 5/12/2021.

Filed Date: 7/20/22.

Accession Number: 20220720-5011.

Comment Date: 5 p.m. ET 8/10/22.

Docket Numbers: ER22-2435-000.

Applicants: Midcontinent Independent System Operator, Inc., American Transmission Company LLC.

Description: § 205(d) Rate Filing: Midcontinent Independent System Operator, Inc. submits tariff filing per 35.13(a)(2)(iii: 2022-07-20_SA 3871 ATC-Allete PSA to be effective 8/30/2022.

Filed Date: 7/20/22.

Accession Number: 20220720-5021.

Comment Date: 5 p.m. ET 8/10/22.

Docket Numbers: ER22-2436-000.

Applicants: Midcontinent Independent System Operator, Inc., Ameren Illinois Company.

Description: § 205(d) Rate Filing: Midcontinent Independent System Operator, Inc. submits tariff filing per 35.13(a)(2)(iii: 2022-07-20_SA 2880 Att A-Proj Spec No. 9-WVPA-Maroa to be effective 9/19/2022.

Filed Date: 7/20/22.

Accession Number: 20220720-5025.

Comment Date: 5 p.m. ET 8/10/22.

Docket Numbers: ER22-2437-000.

Applicants: PJM Interconnection, L.L.C.

Description: § 205(d) Rate Filing: Amendment to ISA, SA No. 4963; Queue No. V4-027/AC2-170 to be effective 3/12/2018.

Filed Date: 7/20/22.

Accession Number: 20220720-5034.

Comment Date: 5 p.m. ET 8/10/22.

Docket Numbers: ER22-2438-000.

Applicants: PJM Interconnection, L.L.C.

Description: § 205(d) Rate Filing: Original NSA No. 6550; Queue No. AD2-163 to be effective 6/20/2022.

Filed Date: 7/20/22.

Accession Number: 20220720-5054.

Comment Date: 5 p.m. ET 8/10/22.

Docket Numbers: ER22-2439-000.

Applicants: Indiana Crossroads Wind Farm LLC.

Description: Baseline eTariff Filing: Shared Facilities Agreement—Meadow Lake to be effective 7/20/2022.

Filed Date: 7/20/22.

Accession Number: 20220720-5055.

Comment Date: 5 p.m. ET 8/10/22.

Docket Numbers: ER22-2440-000.

Applicants: Alabama Power Company, Georgia Power Company, Power Company.

Description: § 205(d) Rate Filing: Alabama Power Company submits tariff filing per 35.13(a)(2)(iii: Aragon Energy Storage LGIA Filing to be effective 7/20/2022.

Filed Date: 7/20/22.

Accession Number: 20220720-5073.

Comment Date: 5 p.m. ET 8/10/22.

Docket Numbers: ER22-2441-000.

Applicants: Midcontinent Independent System Operator, Inc., Ameren Illinois Company.

Description: § 205(d) Rate Filing: Midcontinent Independent System Operator, Inc. submits tariff filing per 35.13(a)(2)(iii: 2022-07-20_SA 2880 Att A- Proj Spec No. 10-WVPA-Troy Grove Viper to be effective 9/19/2022.

Filed Date: 7/20/22.

Accession Number: 20220720-5081.

Comment Date: 5 p.m. ET 8/10/22.

Docket Numbers: ER22-2442-000.

Applicants: Tidal Energy Marketing Inc.

Description: Tariff Amendment: Notice of Cancellation to be effective 7/21/2022.

Filed Date: 7/20/22.

Accession Number: 20220720-5086.

Comment Date: 5 p.m. ET 8/10/22.

Docket Numbers: ER22-2443-000.

Applicants: Virginia Electric and Power Company, PJM Interconnection, L.L.C.

Description: § 205(d) Rate Filing: Virginia Electric and Power Company submits tariff filing per 35.13(a)(2)(iii: Dominion submits revisions to Formula Rate Template, Attachment H-16A to be effective 1/1/2022.

Filed Date: 7/20/22.

Accession Number: 20220720-5136.

Comment Date: 5 p.m. ET 8/10/22.

Docket Numbers: ER22-2444-000.

Applicants: ITC Midwest LLC.

Description: § 205(d) Rate Filing: Filing of Three Agreements with Independence Light & Power Company to be effective 9/19/2022.

Filed Date: 7/20/22.

Accession Number: 20220720-5140.

Comment Date: 5 p.m. ET 8/10/22.

Docket Numbers: ER22-2445-000.

Applicants: PJM Interconnection, L.L.C.

Description: § 205(d) Rate Filing: Original NSA, SA No. 6537; Queue No. B34 to be effective 6/20/2022.

Filed Date: 7/20/22.

Accession Number: 20220720-5143.

Comment Date: 5 p.m. ET 8/10/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 20, 2022.
Debbie-Anne A. Reese,
Deputy Secretary.

[FR Doc. 2022-15998 Filed 7-25-22; 8:45 am]

BILLING CODE 6717-01-P